DEPARTMENT OF HOMELAND SECURITY

Coast Guard

[USCG-2010-1005]

National Maritime Security Advisory Committee; Meeting

AGENCY: Coast Guard, DHS.

ACTION: Notice of meeting.

SUMMARY: The National Maritime Security Advisory Committee (NMSAC) will meet in Washington, DC to discuss various issues relating to national maritime security. This meeting will be open to the public.

DATES: The Committee will meet on Wednesday, January 19, 2011 from 9 a.m. to 4 p.m. and Thursday, January 20, 2011 from 9 a.m. to 12 p.m. This meeting may close early if all business is finished. Written material and requests to make oral presentations should reach the Coast Guard on or before January 10, 2011. Requests to have a copy of your material distributed to each member of the committee should reach the Coast Guard on or before January 10, 2011.

ADDRESSES: The Committee will meet at the American Bureau of Shipping, 1400 Key Blvd, Suite 800, Arlington, VA 22209. Additionally, this meeting will be broadcast via a web enabled interactive online format and teleconference. Send written material and requests to make oral presentations to Mr. Ryan Owens, Assistant Designated Federal Officer (ADFO) of the National Maritime Security Advisory Committee, 2100 2nd Street SW., Stop 7581; Washington, DC 20593-7581. You may also e-mail material to ryan.f.owens@uscg.mil. This notice may be viewed in our online docket, USCG-2010-1005, at http://www.regulations.gov.

FOR FURTHER INFORMATION CONTACT: Mr. Ryan Owens, ADFO of NMSAC, telephone 202-372-1108 or ryan.f.owens@uscg.mil.

SUPPLEMENTARY INFORMATION: Notice of this meeting is given under the Federal Advisory Committee Act, 5 U.S.C. App. (Pub. L. 92-463).

Agenda of Public Meeting

The agenda for the Committee meeting is as follows:

(1) Port Security Grants.

(2) Global Supply Chain Security Policy Efforts.

(3) Update to the Maritime Infrastructure Recovery Plan and the Maritime Transportation System Security Recommendations.

(4) Results of Maritime Transportation Security Act Tasking.

Procedural

This meeting is open to the public and will also be conducted via an online meeting format. Please note that the public portion of the meeting may close early if all business is finished. Seating is very limited, members of the public wishing to attend should register with Mr. Ryan Owens, ADFO of NMSAC, telephone 202-372-1108 or ryan.f.owens@uscg.mil no later than January 10, 2011. To participate via teleconference, dial 866-717-0091, the pass code to join is 3038389#. Additionally, if you would like to participate in this meeting via the online Web format, please log onto https://connect.hsin.gov/uscgnmsac/ and follow the online instructions to register for this meeting. Members of the public may make oral presentations during the public portion of the meeting. If you would like to make an oral presentation at the public portion of the meeting, please notify the ADFO no later than Monday, January 10, 2011. Written material for distribution at a meeting should reach the Coast Guard no later than Monday, January 10, 2011. If you would like a copy of your material distributed to each member of the committee in advance of a meeting, please submit 25 copies to the ADFO no later than Monday, January 10, 2011.

Information on Services for Individuals With Disabilities

For information on facilities or services for individuals with disabilities or to request special assistance at the meeting, contact the ADFO as soon as possible.

Dated: December 21, 2010.
R. F. Owens,
U.S. Coast Guard, Office of Port and Facility Activities, Alternate Designated Federal Official, NMSAC.

[FR Doc. 2010-32717 Filed 12-28-10; 8:45 am]

BILLING CODE 9110-04-P